DEPARTMENT OF JUSTICE

[CPCLO Order No. 008-2019]

Privacy Act of 1974; System of Records

AGENCY: Office of Justice Programs, United States Department of Justice.

ACTION: Notice of a modified system of records.

SUMMARY: Pursuant to the Privacy Act of 1974, and Office of Management and Budget (OMB) Circular No. A-108, notice is hereby given that the Office of Justice Programs (OJP), a component within the United States Department of Justice (Department or DOJ), proposes to modify a system of records notice titled Public Safety Officers' Benefits System, JUSTICE/OJP-012. The Department proposes to modify the Public Safety Officers' Benefits system of records as well as make editorial revisions to earlier notices for the system.

DATES: In accordance with 5 U.S.C. 552a(e)(4) and (11), this notice is effective upon publication, subject to a 30-day period in which to comment on the routine uses, described below. Therefore, please submit any comments within November 7, 2019.

ADDRESSES: The public, OMB, and Congress are invited to submit any comments to the United States Department of Justice, Office of Privacy and Civil Liberties, ATTN: Privacy Analyst, 2 Constitution Square, 8W.300, 145 N Street NE, Washington, DC 20002, by facsimile at (202) 307-0693, or by email at privacy.compliance@usdoj.gov. To ensure proper handling, please reference the above-listed CPCLO Order No. on your correspondence.

FOR FURTHER INFORMATION CONTACT: Hope Janke, Bureau of Justice Assistance, Office of Justice Programs, 810 7th Street NW, Washington, DC 20531; AskPSOB@usdoj.gov; (888) 744-6513.

SUPPLEMENTARY INFORMATION: The purpose of the PSOB Program is to provide: Death benefits to eligible statutory survivors of fallen law enforcement officers, firefighters, and other public safety officers; disability benefits to public safety officers catastrophically injured in the line of duty; and benefits in the form of educational assistance to spouses and children of public safety officers who were killed or catastrophically injured in the line of duty.

The Department is updating the system of records notice for JUSTICE/OJP-012, last published in its entirety in the Federal Register at 64 FR 25070 (May 10, 1999), and amended at 66 FR 8425 (Jan. 31, 2001) and 82 FR 24147 (May 25, 2017). First, the Department is making certain non-substantive editorial changes for JUSTICE/OJP-012, including: Updating the position title of the system's manager; re-ordering the routine uses by listing the routine uses specific to this system of records first, followed by the Department's model routine uses; updating the “Authority for Maintenance of the System” to reflect the reorganization of the United States Code's sections for the PSOB Act from Title 42 to Title 34; and making other non-substantive editorial and conforming changes, such as revising the titles for sections related to the purposes, storage, retrieval, retention, disposal and safeguards of records covered by this system.

Second, the Department is making substantive changes to JUSTICE/OJP-012 including: Updating the security classification for the system; clarifying certain descriptions of categories of records, individuals, and sources contained in the system; and revising and adding routine uses to more accurately describe the entities to, or circumstances under, which OJP may disclose information covered by this system. Examples of the changes to the routine uses of the records in the system include: (1) Adding a routine use that allows OJP to disclose to one claimant minimal relevant information from the records pertaining to another claimant in situations where—(a) the claims are or could be adverse; and (b) disclosure of the records would (or could) assist—(i) any such claimant in establishing his claim, or (ii) OJP in adjudicating any such claim; (2) revising the routine use related to disclosure of information to researchers by requiring approval by the Director of the Bureau of Justice Assistance, while allowing a broader scope of research to be conducted; and (3) adding a routine use that allows OJP to disclose records to appropriate governmental and professional organizational bodies when there is good cause to question the legality or ethical propriety of the actions of a claimant's representative during the pendency of a claim.

The entire notice incorporating the new modifications is being republished for the convenience of the public.

28 CFR pt. 32 and 83 FR 22367 provide the eligibility requirements and procedures for the submission and consideration of claims under the PSOB Program. More detailed information regarding the PSOB Program is available on the PSOB Program's website at www.psob.gov.

In accordance with 5 U.S.C. 552a(r), the Department has provided a report to OMB and Congress on this notice of a modified system of records.

Dated: September 30, 2019.
Peter A. Winn,
Acting Chief Privacy and Civil Liberties Officer, United States Department of Justice.

JUSTICE/OJP-012

SYSTEM NAME AND NUMBER:

Public Safety Officers' Benefits System, JUSTICE/OJP-012.

SECURITY CLASSIFICATION:

Unclassified.

SYSTEM LOCATION:

Records will be located at the Bureau of Justice Assistance (BJA), Office of Justice Programs (OJP), U.S. Department of Justice (DOJ), 810 Seventh Street NW, Washington, DC 20531, and at appropriate locations for system backup and continuity of operations purposes. Records may also be maintained in secure cloud computing environments. The cloud computing service provider on the date of this publication is Microsoft Corporation, located at One Microsoft Way, Redmond, WA 98052. Cloud computing service providers may change. For information about the current cloud computing service provider, please contact the Bureau of Justice Assistance at the address above; telephone (202) 616-6500.

SYSTEM MANAGER(S) AND ADDRESS:

Director of the Public Safety Officers' Benefits (PSOB) Office, Bureau of Justice Assistance, Office of Justice Programs, U.S. Department of Justice, 810 Seventh Street NW, Washington, DC 20531.

AUTHORITY FOR MAINTENANCE OF THE SYSTEM:

Authority for maintaining this system exists under 34 U.S.C. Subt. I, Ch. 101, Subch. XI; Public Law 107-37, as amended; and 44 U.S.C. 3103.

PURPOSE(S) OF THE SYSTEM:

These records are collected or generated for the purpose of adjudicating claims under the program established by the Public Safety Officers' Benefits Act, and related statutes, including the resolution of disputes over eligibility or payment of benefits to claimants; for providing a claimant's contact information to entities and persons that provide national peer support and counseling programs to families of public safety officers who have sustained a fatal or catastrophic injury in the line of duty; and for research purposes approved by the BJA Director that are consistent with the mission of the PSOB program (including, without limitation, purposes related to the cause and prevention of public safety officer line-of-duty deaths and catastrophic injuries).

CATEGORIES OF INDIVIDUALS COVERED BY THE SYSTEM:

Those individuals claiming eligibility for program benefits in accordance with 28 CFR pt. 32 and 83 FR 22367, regardless of the outcome of the claim, including the statutory survivors of fallen public safety officers, officers catastrophically injured in the line of duty, and spouses and children seeking educational assistance.

CATEGORIES OF RECORDS IN THE SYSTEM:

Claim forms filed by or on behalf of claimants seeking program benefits; documentation submitted in support of claims; legal, personal, financial, insurance, tax, medical, and other records received, obtained or generated to assess, adjudicate, and pay claims.

RECORD SOURCE CATEGORIES:

Federal, state, local, territorial, or tribal governments; agencies, departments, and instrumentalities of such governments; medical facilities, physicians, and other health-care providers; individual claimants and claimant representatives, including the statutory survivors of fallen public safety officers, officers catastrophically injured in the line of duty, and spouses and children seeking educational assistance; and non-profit entities engaged in rescue activity or the provision of emergency medical services.

ROUTINE USES OF RECORDS MAINTAINED IN THE SYSTEM, INCLUDING CATEGORIES OF USERS AND THE PURPOSES OF SUCH USES:

In addition to those disclosures generally permitted under 5 U.S.C. 552a(b), records or information contained in this system of records may be disclosed as a routine use pursuant to 5 U.S.C. 552a(b)(3) under the circumstances or for the purposes described below, to the extent such disclosures are compatible with the purposes for which the information was collected.

A. To a court, tribunal, or other adjudicative body, or to a party before any of the same, when any of the following is a party to litigation (or has an interest in such litigation) and OJP determines that such records are arguably relevant or otherwise necessary to the litigation:

i. The DOJ, or any subunit thereof;

ii. Any employee of DOJ in his official capacity;

iii. Any employee of the DOJ in his individual capacity, where DOJ has agreed to represent the employee or determined that it would be in the interests of the United States; or

iv. The United States (or any agency, department, or instrumentality thereof), where the OJP determines that it would be in the interests of the United States.

B. To Federal, state, local, territorial, or tribal governments, to agencies, departments, or instrumentalities of such governments, and to non-profit entities engaged in rescue activity or the provision of emergency medical services, as necessary to obtain information relevant to the adjudication of a claim for program benefits, including whether such benefits have been or are being paid improperly.

C. To appropriate government agencies, to coordinate, with such agencies, the timing or offsetting of benefits, under or in connection with programs they administer (including whether such benefits have been or are being paid improperly), as may be required or authorized by law (including whether offsetting benefits were paid under 34 U.S.C. 10281(f)).

D. To entities and persons that provide national peer support and counseling programs to families of public safety officers who have sustained a fatal or catastrophic injury in the line of duty.

E. To researchers or statisticians, with the approval of the BJA Director, for any research or statistical purposes consonant with the mission of the PSOB program.

F. To claimants, prospective claimants, or their authorized representatives, to the extent necessary to facilitate their pursuit of their claims for program benefits.

G. To an employer or school having information that is or may be relevant to a claim, in order to obtain information from the same to the extent necessary to adjudicate a claim for program benefits (including whether such benefits have been or are being paid improperly).

H. To labor unions, national public safety organizations, and other voluntary employee associations of which the claimant is, or the deceased public safety officer was, a member, for the purpose of assisting the claimant with the processing of his claim for program benefits.

I. To the Executive Office of the President, for the purpose of responding to an individual pursuant to an inquiry received from that individual or from a third party on his behalf, but only when the individual has sought that Office's assistance in a matter relating to a claim for program benefits and that Office makes an inquiry and indicates that it is acting on behalf of the individual whose record is requested.

J. To any or all of the following (on OJP's initiative), where the OJP determines that there is or may be good cause to question the legality or ethical propriety of the conduct of a person or entity representing a person in a matter before the agency: (1) Applicable civil or criminal law enforcement authorities; (2) a person or entity responsible for the licensing, supervision, or professional discipline of the person or organization acting as a representative; and (3) the office in DOJ responsible for making referrals to licensing bodies or for supervisory or professional discipline.

K. Where OJP determines that a record, either alone or in conjunction with other information, does or may indicate a violation of law (criminal, civil, or regulatory in nature), to an appropriate Federal, state, local, territorial, tribal, or foreign law enforcement authority or other appropriate entity charged with the responsibility for investigating or prosecuting such violation or charged with enforcing or implementing such law.

L. To any person or entity that OJP has reason to believe does or may possess information regarding a matter relevant to the administration of the PSOB Program, to the extent deemed to be necessary by OJP in order to obtain information relevant to the adjudication of a claim for program benefits, including whether such benefits have been or are being paid improperly.

M. In an appropriate proceeding before a court, grand jury, or administrative or adjudicative body, when DOJ determines that the records are arguably relevant to the proceeding; or in an appropriate proceeding before an administrative or adjudicative body when the adjudicator determines the records to be relevant to the proceeding.

N. To the news media and the public, including disclosures pursuant to 28 CFR 50.2, unless it is determined that release of the specific information in the particular context would constitute an unwarranted invasion of personal privacy.

O. To contractors, grantees, experts, consultants, students, and others performing or working on a contract, service, grant, cooperative agreement, or other assignment for the Federal government, when necessary to accomplish a Federal function related to this system of records.

P. To a former DOJ employee, for purposes of: Responding to an official inquiry by a Federal, state, or local government entity or professional licensing authority, in accordance with applicable DOJ regulations; or facilitating communications with such former DOJ employee, as may be necessary for personnel-related or other official purposes where DOJ requires information and/or consultation assistance from the former employee regarding a matter within that former employee's former area of responsibility.

Q. To a Member of Congress (or staff acting on the Member's behalf) when the same requests the information on behalf of, and at the request of, the individual who is the subject of the record.

R. To the National Archives and Records Administration (NARA) or the General Services Administration for record management inspections and such other activities conducted under the authority of 44 U.S.C. 2904 and 2906.

S. To appropriate agencies, entities, or persons, when (1) DOJ suspects or has confirmed that there has been a breach of the system of records; (2) DOJ has determined that as a result of the suspected or confirmed breach there is a risk of harm to individuals, property, DOJ (including its information systems, programs, and operations), the Federal Government, or national security; and (3) the disclosure made to such agencies, entities, or persons is reasonably necessary to assist in connection with the DOJ's efforts to respond to the suspected or confirmed breach or to prevent, minimize, or remedy such harm.

T. To a Federal agency or department (or an instrumentality of the Federal Government), when DOJ determines that information from this system of records is reasonably necessary to assist the recipient agency or entity in (1) responding to a suspected or confirmed breach; or (2) preventing, minimizing, or remedying the risk of harm to individuals, property, the recipient agency or entity (including its information systems, programs, and operations), the Federal Government, or national security, resulting from a suspected or confirmed breach.

U. To such recipients and under such circumstances and procedures as are mandated by Federal statute or treaty.

POLICIES AND PRACTICES FOR STORAGE OF RECORDS:

Records in this system are stored in paper and/or electronic format. Paper records are stored in individual file folders and file cabinets with controlled access. Electronic records are stored in electronic media via a configuration of client/servers and personal computers. Records are stored in accordance with applicable executive and agency orders, statutes, and agency implementing regulations.

POLICIES AND PRACTICES FOR RETRIEVAL OF RECORDS:

Files and automated data are retrieved by name of a claimant, name or Social Security number of the individual claimed to be a deceased or catastrophically injured public safety officer, and/or claim file number.

POLICIES AND PRACTICES FOR RETENTION AND DISPOSAL OF RECORDS:

A retention schedule for retaining PSOB records electronically is currently being developed with the National Archives and Records Administration. Under OJP's current record disposition authority, OJP Handbook 1330.2A, records within the PSOB database have been classified as permanent.

ADMINISTRATIVE, TECHNICAL, AND PHYSICAL SAFEGUARDS:

Electronic records are access controlled and password protected. To further safeguard the electronic records, a FedRAMP-compliant cloud solution is utilized, which implements FISMA moderate level security controls, including use of encrypted communication channels for data transmissions and encrypting stored data to protect confidentiality of sensitive data. Paper records are secured in locked file cabinets or in locked offices. All files are maintained in a guarded building.

RECORD ACCESS PROCEDURES:

All requests for access to records must be in writing and should be addressed to the Government Information Specialist, Office of Justice Programs, Department of Justice, Room 5400, 810 7th Street NW, Washington, DC 20531 or FOIAOJP@usdoj.gov. The envelope and letter should be clearly marked “Privacy Act Access Request.” The request must describe the records sought in sufficient detail to enable Department personnel to locate them with a reasonable amount of effort. The request must include a general description of the records sought and must include the requester's full name, current address, and date and place of birth. The request must be signed and either notarized or submitted under penalty of perjury.

Although no specific form is required, forms for this purpose may be obtained from the FOIA/Privacy Act Mail Referral Unit, United States Department of Justice, 950 Pennsylvania Avenue NW, Washington, DC 20530, or on the Department of Justice website at http://www.justice.gov/oip/oip-request.html.

More information regarding the Department's procedures for accessing records in accordance with the Privacy Act may be found at 28 CFR part 16 Subpart D, “Protection of Privacy and Access to Individual Records Under the Privacy Act of 1974.”

CONTESTING RECORD PROCEDURES:

Individuals seeking to contest or amend records maintained in this system of records must direct their requests to the address indicated in the “RECORD ACCESS PROCEDURES” section, above. All requests to contest or amend records must be in writing and the envelope and letter should be clearly marked “Privacy Act Amendment Request.” All requests must state clearly and concisely what record is being contested, the reasons for contesting it, and the proposed amendment to the record.

More information regarding the Department's procedures for amending or contesting records in accordance with the Privacy Act may be found at 28 CFR 16.46, “Requests for Amendment or Correction of Records.”

NOTIFICATION PROCEDURE:

Individuals may be notified if a record in this system of records pertains to them when the individuals request information utilizing the same procedures as those identified in the “RECORD ACCESS PROCEDURES” section, above.

EXEMPTIONS PROMULGATED FOR THE SYSTEM:

None.

HISTORY:

64 FR 25070 (May 10, 1999): Last published in full;

66 FR 8425 (January 31, 2001): Added one routine use;

72 FR 3410 (January 25, 2007): Added one routine use;

82 FR 24147 (May 25, 2017): Rescinded 72 FR 3410 and added two routine uses.

[FR Doc. 2019-21584 Filed 10-7-19; 8:45 am]

BILLING CODE 4410-18-P